NUCLEAR REGULATORY COMMISSION

[Docket No.: 150-00009, General License, 10 CFR 150.20, EA-02-166]

Engineering & Inspections Unlimited, Inc., Boca Raton, FL Demand for Information

On May 7, 2002, Engineering & Inspections Unlimited, Inc. (Licensee), a radiography licensee of the State of Florida, filed an NRC Form 241, “Report of Proposed Activities in Non-Agreement States, Areas of Exclusive Federal Jurisdiction, or Offshore Waters,” notifying the NRC of its intent to conduct radiography activities at numerous locations in the State of Hawaii, a Non-Agreement State. On August 1, 2002, the Licensee filed a revised NRC Form 241, notifying the NRC of additional locations where it intended to conduct radiography activities in Hawaii. In accordance with 10 CFR 150.20, “Recognition of Agreement State licenses,” a specific licensee of an Agreement State is granted a general license to perform the same activity in Non-Agreement states where NRC maintains jurisdiction provided the licensee complies with 10 CFR 150.20(b). Thus, the Licensee is currently performing radiography activities in Hawaii under a general license.

On April 22, 2002, NRC Region IV conducted an unannounced inspection of Engineering & Inspections Hawaii, doing business as Testing Technologies, Inc. (TTI), at a temporary job site in Kapolei, Hawaii. Engineering & Inspections Hawaii was performing activities under an NRC license issued to TTI. TTI, based in Woodbridge, Virginia, and the holder of NRC License No. 45-25007-01, is licensed to conduct radiography activities at temporary job sites anywhere the NRC has jurisdiction. Based on the discovery of apparent willful violations of NRC requirements, on April 24, 2002, NRC's Office of Investigations (OI) began an investigation of activities being conducted in Hawaii under TTI's license. On May 1, 2002, NRC's Region II office in Atlanta, Georgia, issued a confirmatory action letter (CAL No. 2-02-001) to TTI confirming TTI's commitment to take several remedial actions before radiography activities were resumed in Hawaii. As discussed above, on May 7, 2002, Engineering & Inspections Unlimited, Inc., a State of Florida licensee, filed with NRC to perform radiography activities in Hawaii under the reciprocity provisions of 10 CFR 150.20. Thus, Engineering & Inspections Hawaii's activities in Hawaii were no longer being conducted under TTI's NRC license.

The preliminary results of the OI investigation include a finding that the Division Manager for Engineering & Inspections Hawaii, and who is currently managing Engineering & Inspections Unlimited, Inc.'s radiography activities in Hawaii, engaged in deliberate misconduct, as defined by 10 CFR 30.10. Specifically, the investigation found that the Division Manager had on numerous occasions dispatched radiographer's assistants and helpers to conduct radiography without their being accompanied by a certified radiographer who was trained and certified in accordance with the training requirements of 10 CFR 34.43. The Division Manager first denied dispatching non-certified radiographers to conduct radiography, but admitted after being shown records of specific radiography jobs that he had assigned non-certified radiographers to conduct radiography because of a shortage of qualified personnel.

The investigative evidence developed to date demonstrates a lack of regard for NRC's radiation safety requirements by the Division Manager. The Division Manager currently manages Engineering & Inspections Unlimited, Inc.'s radiography activities in Hawaii, supervises the individual that dispatches workers to job-sites, and is himself authorized to perform radiography. This situation raises questions as to why the NRC should have reasonable assurance that Engineering & Inspections Unlimited, Inc.'s radiography activities in Hawaii are being conducted in accordance with all NRC radiation safety requirements.

Given the Division Manager's involvement in, and supervisory responsibility for, the Licensee's radiation safety program, further information is needed to determine whether the Commission can have reasonable assurance that the Licensee's radiography activities in Hawaii are being conducted in accordance with all radiation safety requirements.

Accordingly, pursuant to sections 161c, 161o, 182 and 186 of the Atomic Energy Act of 1954, as amended, and the Commission's regulations in 10 CFR 2.204, 30.32(b), and 150.20(b) in order for the Commission to determine whether the Licensee's general license should be suspended or revoked, or other enforcement action taken to ensure compliance with NRC regulatory requirements, the Licensee is required to submit to the Director, Office of Enforcement, U.S. Nuclear Regulatory Commission, Washington, DC 20555, within 10 days of the date of this Demand for Information, in writing and under oath or affirmation: Information as to why the NRC should have reasonable assurance that the Licensee's radiography activities in Hawaii are being conducted, and will be conducted, in accordance with all NRC radiation safety requirements.

Copies of the Licensee's response to this Demand for Information also shall be sent to the Assistant General Counsel for Materials Litigation and Enforcement at the same address, the Regional Administrator, NRC Region IV, 611 Ryan Plaza Drive, Suite 400, Arlington, Texas 76011-4005, and the Regional Administrator, NRC Region II, Atlanta Federal Center, 61 Forsyth St., Atlanta, Georgia 30303.

After reviewing the Licensee's response, the NRC will determine whether further action is necessary to ensure compliance with regulatory requirements.

Dated this 5th day of September 2002.
For the Nuclear Regulatory Commission.
James G. Luehman,
Deputy Director, Office of Enforcement.

[FR Doc. 02-23360 Filed 9-12-02; 8:45 am]

BILLING CODE 7590-01-P